AMTRAK REFORM COUNCIL

Notice of Meeting

AGENCY: Amtrak Reform Council.

ACTION: Notice of special public business meeting in Washington, DC.

SUMMARY: As provided in Section 203 of the Amtrak Reform and Accountability Act of 1997 (Reform Act), the Amtrak Reform Council (Council) gives notice of a special public meeting of the Council. On Friday, January 11, 2002, the Council will hold a Business Meeting from 9:30 a.m.-4 p.m. Eastern Standard Time (EST) during which time the Council members will discuss the various options for restructuring intercity rail passenger service.

During the last Council meeting on December 14, 2001, the Council discussed nine options for restructuring Amtrak. The Council then instructed the Council staff to reduce those options to three, and the Council will discuss those three options at the next Council meeting on January 11, 2002. The Council will determine, either at the January 11th Meeting, in a later meeting, or by a mail ballot, which option or options to adopt. The final recommendation will be submitted to Congress on February 7, 2002.

The Amtrak Reform Council on November 9, 2001 approved a resolution finding that Amtrak would not achieve operational self-sufficiency by December 2, 2002 as required by the Amtrak Reform and Accountability Act of 1997. The Council's finding started a 90-day clock in which the Council must submit an action plan for a restructured and rationalized national intercity rail passenger system to Congress.

DATES: The Business Meeting will be held on Friday, January 11, 2002, from 9:30 a.m.-4 p.m. EST. The event is open to the public.

ADDRESSES: The Business Meeting will take place in the Monet Suite (2nd Floor) in the Loews L'Enfant Hotel, 480 L'Enfant Plaza, SW., Washington, DC 20024. The nearest Metro stop is L'Enfant. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. For information regarding ARC's Finding Resolution, the ARC's Proposed Nine Options for Restructuring Amtrak, the ARC's two Annual Reports, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC—December 19, 2001.
Thomas A. Till,
Executive Director.

[FR Doc. 01-31793 Filed 12-26-01; 8:45 am]

BILLING CODE 4910-06-P